DEPARTMENT OF DEFENSE

Department of the Navy

Meeting of the Board of Advisors to the Presidents of the Naval Postgraduate School and the Naval War College

AGENCY: Department of the Navy, DoD.

ACTION: Notice of open meeting.

SUMMARY: Pursuant to the provisions of The Federal Advisory Committee Act (Pub. L. 92-463, as amended), notice is hereby given that the following meeting of the Board of Advisors (BOA) to the Presidents of the Naval Postgraduate School (NPS) and the Naval War College (NWC) and its subcommittees will be held. This meeting will be open to the public.

DATES: The meeting will be held on Thursday, September 29, 2011, from 8 a.m. to 4 p.m. and on Friday, September 30, 2011, from 8 a.m. to 4 p.m. Eastern Time Zone.

ADDRESSES: The meeting will be held at the Office of Naval Research, 875 N. Randolph Street, Arlington, VA.

FOR FURTHER INFORMATION CONTACT: Ms. Jaye Panza, Naval Postgraduate School, Monterey, CA 93943-5001, telephone number 831-656-2514.

SUPPLEMENTARY INFORMATION: The purpose of the meeting is to elicit the advice of the Board on the Naval Service's Postgraduate Education Program and the collaborative exchange and partnership between the NPS and the Air Force Institute of Technology. The board examines the effectiveness with which the NPS and the NWC are accomplishing its mission. The agenda is as follows:

(1) September 29, 2011: General deliberations and inquiry into the curricula; instruction; physical equipment; administration; state of morale of the student body, faculty, and staff; fiscal affairs; and any other matters relating to the operations of the Naval Postgraduate School as the board considers pertinent.

(2) September 30, 2011: General deliberations and inquiry into the curricula; instruction; physical equipment; administration; state of morale of the student body, faculty, and staff; fiscal affairs; and any other matters relating to the operations of the Naval War College as the board considers pertinent.

Individuals without a DoD Government Common Access Card require an escort at the meeting location. For access, information, or to send written comments regarding the NPS/NWC BOA contact Ms. Jaye Panza, Naval Postgraduate School, 1 University Circle, Monterey, CA 93943-5001 or by fax 831-656-3145 by September 15, 2011.

Dated: July 22, 2011.
L. M. Senay,
Lieutenant, Judge Advocate General's Corps, U.S. Navy, Federal Register Liaison Officer.

[FR Doc. 2011-19055 Filed 7-27-11; 8:45 am]

BILLING CODE 3810-FF-P